DEPARTMENT OF AGRICULTURE

Food and Nutrition Service

Agency Information Collection Activities: Proposed Collection; Comment Request—Child Nutrition Program Operations Study II (CN-OPS-II)

AGENCY: Food and Nutrition Service, United States Department of Agriculture (USDA).

ACTION: Notice and request for comments.

SUMMARY: In accordance with the Paperwork Reduction Act of 1995, this notice invites the general public and other public agencies to comment on this proposed information collection. This collection is a revision of a currently approved collection for the Child Nutrition Program Operations Study II (CN-OPS-II) (OMB Number 0584-0607, Expiration Date: 04/30/2019).

DATES: Written comments must be received on or before December 5, 2016.

ADDRESSES: Comments are invited on (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Devin Wallace-Williams, Ph.D., Social Science Research Analyst, Office of Policy Support, Food and Nutrition Service, USDA, 3101 Park Center Drive, VA 22302. Comments may also be submitted via fax to the attention of Devin Wallace-Williams at 703-305-2576 or via email to Devin.Wallace-Williams@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project, contact Devin Wallace-Williams, Ph.D., Social Science Research Analyst, Office of Policy Support, Food and Nutrition Service, USDA, 3101 Park Center Drive, Alexandria, VA 22302; Fax: 703-305-2576; Email: Devin.Wallace-Williams@fns.usda.gov.

SUPPLEMENTARY INFORMATION:

Title: Child Nutrition Program Operations Study II (CN-OPS-II).

Form Number: N/A. OMB Number: 0584-0607.

Expiration Date: 04/30/2019.

Type of Request: Revision of a currently approved collection.

Abstract: The objective of the Child Nutrition Program Operations Study II (CN-OPS-II) is to collect timely data on policies, administrative, and operational issues on the Child Nutrition Programs (CNP). The ultimate goal is to analyze these data and to provide input for new legislation on Child Nutrition Programs, as well as to provide pertinent technical assistance and training to program implementation staff.

CN-OPS-II will help the Food and Nutrition Service (FNS) better understand and address current policy issues related to CNP operations. The policy and operational issues include, but are not limited to, the preparation of the program budget, development and implementation of program policy and regulations, and identification of areas for technical assistance and training. Specifically, this study will help FNS obtain:

• General descriptive data on the CN program characteristics to help FNS respond to questions about the nutrition programs in schools;

• Data related to program administration for designing and revising program regulations, managing resources, and reporting requirements; and

• Data related to program operations to help FNS develop and provide training and technical assistance for School Food Authorities (SFAs) and State Agencies responsible for administering the CN programs.

The activities to be undertaken subject to this notice include:

• Conducting a multi-modal (e.g. paper, web, and telephone) survey of approximately 1,750 SFA Directors in School Year (SY) 2016-17, SY 2017-18, and SY 2018-19; and

• Conducting a multi-modal (e.g. paper, web, and telephone) survey of all 55 State Agency CN Directors in SY 2016-17, SY 2017-18, and SY 2018-19.

Affected Public: State, Local and Tribal Governments.

Type of Respondents: SFA Directors and State CN Directors.

Estimated Total Number of Respondents: 2,251 annually, including 1,813 respondents and 438 non-respondents.

Frequency of Responses per Respondent: 3.

Estimated Total Annual Responses: 6737 responses across the entire collection. This includes 5,423 for the respondents and 1,314 for the non-respondents.

Estimate of Time per Respondent and Annual Burden: The average time across all respondents is 42 minutes (0.70 hours). This includes 3.5 minutes (0.06 hours) for non-respondents and 51 minutes (0.85 hours) for respondents. The total annual reporting burden is estimated at 4,699 (see Exhibit 1. Estimates of Respondent Burden). The estimates presented are expected to be typical of the burden in each year of data collection. FNS will submit amended estimates if burden deviates significantly for a particular year.

Dated: September 20, 2016.
Telora T. Dean,
Acting Administrator, Food and Nutrition Service.

BILLING CODE 3410-30-P

[FR Doc. 2016-23859 Filed 10-3-16; 8:45 am]

BILLING CODE 3410-30-C